DEPARTMENT OF COMMERCE

International Trade Administration

[A-570-904]

Certain Activated Carbon From the People's Republic of China: Amended Final Results of Antidumping Duty Administrative Review; 2016-2017

AGENCY: Enforcement and Compliance, International Trade Administration, Department of Commerce.

SUMMARY: On October 22, 2018, the Department of Commerce (Commerce) published in the Federal Register the final results of the administrative review of the antidumping duty (AD) order on certain activated carbon from the People's Republic of China (China). Commerce is amending the final results of the administrative review to correct ministerial errors.

DATES: Applicable November 19, 2018.

FOR FURTHER INFORMATION CONTACT: John Anwesen or Jinny Ahn, AD/CVD Operations, Office VIII, Enforcement and Compliance, International Trade Administration, Department of Commerce, 14th Street and Constitution Avenue NW, Washington, DC 20230; telephone: (202) 482-0131 or (202) 482-0339, respectively.

SUPPLEMENTARY INFORMATION:

On October 22, 2018, Commerce published in the Federal Register the final results of the administrative review of certain activated carbon from China.¹ On October 23, 2018, Datong Juqiang submitted timely ministerial error allegations regarding the Final Results. In addition, Tianjin Channel Filters Co., Ltd. (TCF), Jilin Bright Future Chemicals Co. Ltd (Jilin Bright Future), Datong Municipal Yunguang Activated Carbon Co., Ltd. (Datong Yunguang), Shanxi Industry Technology Trading Co., Ltd. (SITT), and Shanxi Dapu International Trade Co., Ltd. (Shanxi Dapu) (collectively, No Shipment Companies) submitted timely ministerial error allegations regarding the Final Results.

¹ See Certain Activated Carbon from the People's Republic of China: Final Results of Antidumping Duty Administrative Review; 2016-2017, 83 FR 53214 (October 22, 2018) (Final Results) and accompanying Issues and Decision Memorandum.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ² With respect to final results, 19 CFR 351.224(e) provides that Commerce “will analyze any comments received and, if appropriate, correct any ministerial error by amending . . . the final results of review. . . .”

² See also 19 CFR 351.224(f).

Ministerial Errors

A. No Shipment Companies

The No Shipment Companies allege that, in Appendix II of the Final Results, Commerce erroneously listed TCF, Jilin Bright Future, Datong Yunguang, SITT, and Shanxi Dapu as companies not eligible for a separate rate and, therefore, part of the China-Wide entity. With regard to the No Shipment Companies' allegation, we agree that the inclusion of their names in Appendix II of the Final Results constitutes a ministerial error. In the Final Results, we determined that these companies made no shipments of subject merchandise during the period of review, based on their respective certifications of no shipments and our inquiry with CBP. Thus, the inclusion of these companies in Appendix II of the Final Results, which identified the companies that were not eligible for a separate rate and would be treated as part of the China-wide entity, was an unintentional error, and constitutes a ministerial error within the meaning of section 751(h) of the Act and 19 CFR 351.224(f), which warrants a correction. Consequently, we revised Appendix II to remove TCF, Jilin Bright Future, Datong Yunguang, SITT, and Shanxi Dapu from the list of companies not eligible for a separate rate as part of the China-Wide entity.

B. Carbon Activated Tianjin Co., Ltd.

In reviewing the ministerial error allegations in the Final Results, we noted that we inadvertently we applied the margin corresponding to the incorrect comparison method, inconsistent with the results of our differential pricing test and analysis. This error resulted in assigning the incorrect weighted-average dumping margin to Carbon Activated Tianjin Co., Ltd. (Carbon Activated). In the Final Results, we inadvertently listed a dumping margin calculated based on the average-to-transaction (A-T) comparison method, which resulted in a $0.45/kilogram weighted-average dumping margin.³ However, we should have listed the dumping margin calculated using the mixed alternative methodology (i.e., average-to-average and A-T method),⁴ which results in a weighted-average dumping margin of $0.23/kilogram. We find that our application of the margin corresponding to the A-T comparison method is an unintentional error constituting a ministerial error within the meaning of section 751(h) of the Act and 19 CFR 351.224(f), and warranting correction.⁵ Consequently, as explained in the Ministerial Error Memorandum, we are amending the final weighted-average dumping margin for Carbon Activated pursuant to 19 CFR 351.224(e) to reflect the correct methodology and weighted-average dumping margin.

³ See Final Results, 83 FR at 53214. See also Memorandum, “Antidumping Duty Administrative Review of Certain Activated Carbon from the People's Republic of China: Final Results Calculation Memorandum for Carbon Activated” at 3.

⁴ See Memorandum, “Antidumping Duty Administrative Review of Certain Activated Carbon from the People's Republic of China: Final Results Calculation Memorandum for Carbon Activated” dated October 16, 2018 (Carbon Activated's Final Calculation Memorandum), at 3-4.

⁵ See Ministerial Error Memorandum; see also Carbon Activated's Final Calculation Memorandum at 3-4.

Furthermore, in the Final Results, we assigned to the non-individually examined companies that qualified for a separate rate (Separate Rate Companies), the weighted-average dumping margin calculated for Carbon Activated.⁶ Consistent with our practice, because we are amending Carbon Activated's final weighted-average dumping margin to reflect the correct differential pricing methodology, we are also amending the separate rate assigned to the Separate Rate Companies.

⁶ See Final Results, 83 FR at 53214.

Revisions Not Covered by Section 751(h) of the Act

In its timely filed ministerial allegation letter, Datong Juqiang alleges that, in the Datong Juqiang-specific draft liquidation instructions, Commerce identified one importer/customer by its short name, not its full legal name. In the final Datong Juqiang-specific liquidation instructions, Datong Juqiang requests that Commerce identify the importer/customer by both its full legal name and short name. Datong Juqiang also requests that Commerce revise the instruction to include an additional customer reported by Datong Juqiang in its responses, to avoid any confusion with United States Customs and Border Protection (CBP) when liquidating entries.

We find that Datong Juqiang's alleged errors do not constitute a ministerial error within the meaning of section 751(h) of the Act and 19 CFR 351.224(f) because they are comments on the draft liquidation instructions, rather than allegations of error in the final results of this administrative review. Nevertheless, we have considerd Datong Juqiang's comment on the draft liquidation instructions and have revised Datong Juqiang's liquidation instruction to include both the full legal name and short name of one importer/customer as identified by Datong Juqiang. However, consistent with our practice, we decline to include the name of the additional customer reported by Datong Juqiang in its responses because this customer was not reported as importer of record, which is the information upon which importer-specific assessment and liquidation instructions are based, unless the importer of record is unknown. In this case, this additional customer was not reported as an importer of record.

Amended Final Results

The amended weighted-average dumping margins are as follows:

⁷ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) and accompanying IDM at Comment 3.

⁸ There are no changes to the dumping margin for Datong Juqiang Activated Carbon Co., Ltd.

⁹ In the third administrative review of the Order, Commerce found that Jacobi Carbons AB, Tianjin Jacobi International Trading Co. Ltd., and Jacobi Carbons Industry (Tianjin) are a single entity and, because there were no facts presented on the record of this review which would call into question our prior finding, we continue to treat these companies as part of a single entity for this administrative review, pursuant to sections 771(33)(E), (F), and (G) of the Act and 19 CFR 351.401(f). See Certain Activated Carbon from the People's Republic of China: Final Results and Partial Rescission of Third Antidumping Duty Administrative Review, 76 FR 67142, 67145 n.25 (October 31, 2011); see also Preliminary Results, and accompanying PDM at n.26.

Exporter | Amended weighted- average dumping margins (USD/kg) ⁷
Beijing Pacific Activated Carbon Products Co., Ltd | 0.23
Carbon Activated Tianjin Co., Ltd | 0.23
Datong Juqiang Activated Carbon Co., Ltd ⁸ | 0.00
Jacobi Carbons AB ⁹ | 0.23
Ningxia Guanghua Cherishmet Activated Carbon Co., Ltd | 0.23
Ningxia Huahui Activated Carbon Co., Ltd | 0.23
Ningxia Mineral & Chemical Limited | 0.23
Shanxi Sincere Industrial Co., Ltd | 0.23

These amended final results are published in accordance with sections 751(h) and 777(i)(1) of the Act and 19 CFR 351.224(e) and (g).

Dated: November 13, 2018.
Gary Taverman,
Deputy Assistant Secretary for Antidumping and Countervailing Duty Operations, performing the non-exclusive functions and duties of the Assistant Secretary for Enforcement and Compliance.

Appendix

Companies Not Eligible for a Separate Rate and To Be Treated as Part of China-Wide Entity

Company

1. Beijing Embrace Technology Co., Ltd.

2. Meadwestvaco (China) Holding Co., Ltd.

3. Ningxia Guanghua A/C Co., Ltd.

4. Ningxia Guanghua Activated Carbon Co., Ltd.

5. Ningxia Guanghua Chemical Activated Carbon Co., Ltd.

6. Ningxia Jirui Activated Carbon

7. Shanxi DMD Corporation

8. Tancarb Activated Carbon Co., Ltd.

9. Tangshan Solid Carbon Co., Ltd.

10. Tianjin Jacobi International Trading Co., Ltd.

11. Tianjin Maijin Industries Co., Ltd.

[FR Doc. 2018-25144 Filed 11-16-18; 8:45 am]

BILLING CODE 3510-DS-P